DEPARTMENT OF HEALTH AND HUMAN SERVICES

National Institutes of Health

Center For Scientific Review; Cancellation of Meeting

Notice is hereby given of the cancellation of the Center for Scientific Review Special Emphasis Panel, March 24, 2016, 2:30 p.m. to March 24, 2016, 5:00 p.m., National Institutes of Health, 6701 Rockledge Drive, Bethesda, MD 20892 which was published in the Federal Register on February 29, 2016, 81 FR 10264.

The meeting is cancelled due to the reassignment of applications.

Dated: March 2, 2016.
Natasha M. Copeland,
Program Analyst, Office of Federal Advisory Committee Policy.

[FR Doc. 2016-05020 Filed 3-7-16; 8:45 am]

BILLING CODE 4140-01-P